DEPARTMENT OF DEFENSE

Department of the Army

32 CFR Part 505

Army Privacy Act Program

AGENCY: Department of the Army, DoD.

ACTION: Final rule.

SUMMARY: The Department of the Army is amending its rule on notification of the Army Litigation Division when complaints citing the Privacy Act are filed in order to correct the mailing address in § 505.12. The address for notifying the Army Litigation Division of cases citing the Privacy Act and filed in a U.S. District Court has changed.

DATES: Effective Date: This rule is effective March 27, 2013.

FOR FURTHER INFORMATION CONTACT: MAJ Lisa R. Bloom, 703-693-1009, email: lisa.bloom@us.army.mil.

SUPPLEMENTARY INFORMATION:

A. Background

In the August 10, 2006, issue of the Federal Register (71 FR 46052), the Department of the Army issued a final rule. This final rule corrects the mailing address for the Army Litigation Division. The Army Litigation Division moved to Fort Belvoir in September 2011.

B. Regulatory Flexibility Act

The Department of the Army has determined that the Regulatory Flexibility Act does not apply because the rule change does not have a significant economic impact on a substantial number of small entities within the meaning of the Regulatory Flexibility Act, 5 U.S.C. 601-612.

C. Unfunded Mandates Reform Act

The Department of the Army has determined that the Unfunded Mandates Reform Act does not apply because the rule change does not include a mandate that may result in estimated costs to State, local or tribal governments in the aggregate, or the private sector, of $100 million or more.

D. National Environmental Policy Act

The Department of the Army has determined that the National Environmental Policy Act does not apply because the rule change does not have an adverse impact on the environment.

E. Paperwork Reduction Act

The Department of the Army has determined that the Paperwork Reduction Act does not apply because the rule change does not involve collection of information from the public.

F. Executive Order 12630 (Government Actions and Interference With Constitutionally Protected Property Rights)

The Department of the Army has determined that Executive Order 12630 does not apply because the rule change does not impair private property rights.

G. Executive Order 12866 (Regulatory Planning and Review) and Executive Order 13563 (Improving Regulation and Regulatory Review)

The Department of the Army has determined that according to the criteria defined in Executive Order 12866 and Executive Order 13563 this rule change is not a significant regulatory action. As such, the rule is not subject to Office of Management and Budget review under section 6(a)(3) of the Executive Order.

H. Executive Order 13045 (Protection of Children From Environmental Health Risk and Safety Risks)

The Department of the Army has determined that according to the criteria defined in Executive Order 13045 that Executive Order does not apply.

I. Executive Order 13132 (Federalism)

The Department of the Army has determined that according to the criteria defined in Executive Order 13132 that Executive Order does not apply because the rule change will not have a substantial effect on the States, on the relationship between the national government and the States, or on the distribution of power and responsibilities among the various levels of government.

Kevin K. Robitaille,
COL, JA, Chief, U.S. Army Litigation Division.

List of Subjects in 32 CFR Part 505

Privacy, Enforcement actions.

For reasons stated in the preamble 32 CFR part 505 is amended as follows:

PART 505—ARMY PRIVACY ACT PROGRAM

1. The authority citation for part 505 continues to read as follows:

Authority: Pub. L. 93-579, 88 Stat. 1896 (5 U.S.C. 552a).

2. Revise paragraph (b) (1) of § 505.12 to read as follows:

§ 505.12 Privacy Act enforcement actions.

* * * * *

(b) * * *

(1) When a complaint citing the Privacy Act is filed in a U.S. District Court against the Department of the Army, an Army Component, a DA Official, or any Army employee, the responsible system manager will promptly notify the Army Litigation Division, U.S. Army Legal Services Agency (USALSA), 9275 Gunston Road, Fort Belvoir, VA 22060.

* * * * *

[FR Doc. 2013-06968 Filed 3-26-13; 8:45 am]

BILLING CODE 3710-08-P